DEPARTMENT OF THE INTERIOR

National Park Service

[NPS-WASO-NAGPRA-NPS0037342; PPWOCRADN0-PCU00RP14.R50000]

Notice of Inventory Completion: Central Washington University, Ellensburg, WA

AGENCY: National Park Service, Interior.

ACTION: Notice.

SUMMARY: In accordance with the Native American Graves Protection and Repatriation Act (NAGPRA), Central Washington University has completed an inventory of human remains and associated funerary objects has determined that there is a cultural affiliation between the human remains and associated funerary objects and Indian Tribes or Native Hawaiian organizations in this notice. The human remains and associated funerary objects were removed from Grant and Kittitas Counties, WA.

DATES: Repatriation of the human remains and associated funerary objects in this notice may occur on or after March 11, 2024.

ADDRESSES: Lourdes Henebry-DeLeon, Department of Anthropology and Museum Studies, Central Washington University, 400 University Way, Ellensburg, WA 98926-7544, telephone (509) 963-2671, email Lourdes.Henebry-DeLeon@cwu.edu.

SUPPLEMENTARY INFORMATION: This notice is published as part of the National Park Service's administrative responsibilities under NAGPRA. The determinations in this notice are the sole responsibility of Central Washington University. The National Park Service is not responsible for the determinations in this notice. Additional information on the determinations in this notice, including the results of consultation, can be found in the inventory or related records held by Central Washington University.

Description

Between 1925 and 1990, human remains representing at minimum, 65 individuals were removed from Kittitas and Grant Counties, WA. Five lots of associated funerary objects are present.

Between 1925 and 1935, human remains representing, at minimum, 32 individuals were removed from Whiskey Dick Bar, site 45-KT-17, in Kittitas County, WA, by Dr. Linus Walker. In 1953, Dr. Walker donated the remains to Central Washington University. No associated funerary objects are present.

Between 1935 and 1937, CWU Professor George Beck removed human remains representing at minimum, four individuals during a fossil collecting expedition in Kittitas County, WA. One individual was in a grave at Whiskey Dick Bar, (45-KT-17), two individuals were removed from the area near the town of Vantage, and one individual from Montgomery Bar, site 45-KT-8. No associated funerary objects are present.

Between 1953-1954, human remains representing, at minimum, two individuals were removed from the Cedar Cave, site 45-KT-20 in Kittitas County, WA, as part of a University of Washington field expedition by Dr. Earl Swanson. Subsequently, the Burke Museum donated these human remains to Central Washington University. No associated funerary objects are present.

In the 1970's and 1980's human remains representing, at minimum, 11 individuals were removed from the area near the town of Vantage in Kittitas County, WA, by unknown individuals and donated to Central Washington University. No associated funerary objects are present.

In the early 1900s, human remains representing, at minimum, 13 individuals were removed from “Middle Columbia River”, in Kittitas County, WA, by private collectors. Subsequently, these human remains were donated to Central Washington University by unknown individuals. No associated funerary objects are present.

In 1970, human remains representing, at minimum, two individuals were removed from the Grissom Site (45-KT-301) in Kittitas County, WA, by a Central Washington University archaeology field school. The five associated funerary objects are one lot of matting, one lot of historic beads, one lot of metal buttons, one lot of seeds, and one lot flakes.

Human remains representing, at minimum, one individual were removed from Crab Creek near the town of Beverly, in Grant County, WA and subsequently donated to Central Washington University by unknown individuals. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, biological, geographical, and historical.

Determinations

Pursuant to NAGPRA and its implementing regulations, and after consultation with the appropriate Indian Tribes and Native Hawaiian organizations, Central Washington University has determined that:

• The human remains described in this notice represent the physical remains of 65 individuals of Native American ancestry.

• The five lots of objects described in this notice are reasonably believed to have been placed with or near individual human remains at the time of death or later as part of the death rite or ceremony.

• There is a relationship of shared group identity that can be reasonably traced between the human remains and associated funerary objects described in this notice and the Confederated Tribes and Bands of the Yakama Nation and the Confederated Tribes of the Colville Reservation.

Requests for Repatriation

Written requests for repatriation of the human remains and associated funerary objects in this notice must be sent to the Responsible Official identified in ADDRESSES. Requests for repatriation may be submitted by:

1. Any one or more of the Indian Tribes or Native Hawaiian organizations identified in this notice and, if joined to a request from one or more of the Indian Tribes, the Wanapum Band of Priest Rapids, a non-federally recognized Indian group.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 11, 2024. If competing requests for repatriation are received, Central Washington University must determine the most appropriate requestor prior to repatriation. Requests for joint repatriation of the human remains and associated funerary objects are considered a single request and not competing requests. Central Washington University is responsible for sending a copy of this notice to the Indian Tribes identified in this notice.

This notice was submitted on or after the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 1, 2024.
Melanie O'Brien,
Manager, National NAGPRA Program.

[FR Doc. 2024-02550 Filed 2-7-24; 8:45 am]

BILLING CODE 4312-52-P